SMALL BUSINESS ADMINISTRATION

Federal and State Technology Partnership Program to Provide Outreach and Technical Assistance to Small Technology-Based Businesses Interested in Becoming Involved or Presently Involved in Federal R & D Programs

AGENCY: Small Business Administration.

ACTION: Program Announcement No. FAST-02-R-0002 technical amendment.

SUMMARY: A technical amendment to the U.S. Small Business Administration (SBA) Program Announcement No. FAST-02-0002. The amendment is being issued to address errors in the original document. Corrections pertain to the cover letter to prospective applicants; Section V, Glossary of Terms; Section VI, Program Overview, Items L, P and S; Section VII, Organization and Staff Qualifications.

Letter to Prospective Applicants

Current: Federal and State Technology Transfer Partnership Program.

Correction: Delete the word Transfer in the Subject line.

Section V—Glossary of Terms—Page 7

Current: Socially and economically disadvantaged.

Correction: Socially and economically disadvantaged (minority-owned).

Section VI—Item L—Page 10

Current: XXXXXXX.

Correction: Delete and replace XXXXX * * * with July 25, 2002.

Section VI—Item P—Page 12

Current: Applicants receiving scores of 70 or greater will than be submitted to the second tier Committee for final review and selection. Applications for new and incumbent applicants will undergo a second level “joint” review by program officials representing the SBA, Department of Defense and National Science Foundation.

Correction: Delete current sentences and replace with—(Last sentence, first paragraph) Scores for both new and incumbent applicants will then be compiled and ranked. (First sentence, second paragraph) Proposals that meet the baseline score of 90 will be forwarded to the second tier evaluation panel for review and funding recommendation.

Applications for new and incumbent applicants with a score of 90 or above will undergo a second level “joint” review by program officials representing the SBA, Department of Defense and National Science Foundation.

Section VII—Organizational and Staff Qualifications (New and Incumbent Applicants Pages 18 and 22 Paras. 4 and 2 Respectively)

Current: This position must be created/assigned to a qualified individual within or to be hired by the recipient organization and a minimum of 60% of this individual's time must be committed solely to the oversight and administration of the FAST project.

Correction: Delete 60% and replace with'This position must be created/assigned to a qualified individual within or to be hired by the recipient organization and the applicant must specify the amount of time this individual will commit to the oversight and administration of the FAST project. The applicant must also justify the adequacy of such time commitment to the proper administration of the FAST grant/award.

Section VI, Item S—Page 13. Para. 1 and 2

Current: The Project Director must be a full-time employee of the recipient and must devote a minimum of 60% of his/her time to the conduct and management of this project.

Correction: Delete current sentence and replace with—The Project Director must be a full/part-time employee of the recipient. The applicant must specify the amount of time this individual will commit to the project including project oversight and administration thereof. The applicant must also justify the adequacy of such time commitment to the proper administration of the FAST grant/award.

Current: The recipient should do 51% of the work required for this effort. A minimum of 51% of the proposed time and effort in terms of project cost shall be conducted through use of the applicant's internal resources. An applicant must document that at least 51% of both qualified staff and systems necessary to perform the proposed work effort are in-residence at the time of award.

Correction: The recipient should do 51% of the work required for this effort. A minimum of 51% of the proposed time and effort in terms of project cost should be conducted through use of the applicants internal resources. To facilitate more effective geographic coverage for the proposed project, the applicant may need to subcontract more than 49% of the work required for this effort. If the applicant finds that more than 49% of the project needs to be subcontracted, excluding project oversight and administration, to better provide services to the target community, the applicant must provide a narrative justification substantiating the need to subcontract more than 49% of the project in both the technical and cost portions of the FAST proposal. In any case, no more than 70% of the project may be subcontracted, and the applicant must document that adequate and qualified staff and systems in-residence are in place at the time of award to perform the proposed work effort.

All other terms and conditions in this announcement remain the same.

DATES: The application period will be from June 10, 2002 until July 25, 2002.

FOR FURTHER INFORMATION CONTACT: Cherina Hunter, (202) 205-7344 or Mina Bookhard (202) 205-7080.

Maurice Swinton,
Assistant Administrator, SBA Office of Technology.

[FR Doc. 02-17108 Filed 7-8-02; 8:45 am]

BILLING CODE 8025-01-P